GENERAL SERVICES ADMINISTRATION

[Wildlife Order 187; 4-D-FL-1218]

Public Buildings Service; Key Largo Beacon Annex Site; Key Largo, FL; Transfer of Property

Pursuant to section 2 of Public Law 537, 80th Congress, approved May 19, 1948 (16 U.S.C. 667c), notice is hereby given that:

1. The General Services Administration transferred 4.2 acres of land and improvements, identified as Key Largo Beacon Annex Site, Key Largo, FL to the U.S. Fish and Wildlife Service, Department of the Interior by transfer letter dated August 17, 2004.

2. The above property was conveyed for wildlife conservation in accordance with the provisions of section 1 of Public Law 80-537 (16 U.S.C. 667b), as amended by Public Law 92-432.

FOR FURTHER INFORMATION CONTACT: Mr. Rob Miller, Director of the Real Property Disposal Division (4PZ), by phone on (404) 331-5133.

Dated: April 6, 2010.
Gordon S. Creed,
Acting Deputy Assistant Commissioner, Office of Real Property Utilization & Disposal.

[FR Doc. 2010-8986 Filed 4-16-10; 8:45 am]

BILLING CODE 6820-96-P